DEPARTMENT OF DEFENSE

Department of the Navy

Notice of Intent To Grant Exclusive Patent License; Quest Integrated, Inc.

AGENCY: Department of the Navy, DoD.

ACTION: Notice.

SUMMARY: The Department of the Navy hereby gives notice of its intent to grant to Quest Integrated, Inc. a revocable, nonassignable, exclusive license to practice in the fields of use of cable, guy wire and other structural wire rope inspections in the United States and its territories, for the Government-owned invention represented by U.S. Statutory Invention Registration No. 13/038,574 entitled, “Onboard Data Recorder for a Nondestructive Test Wire Rope Sensor Head” (Navy Case No. 100986).

DATES: Anyone wishing to object to the grant of this license must file written objections along with supporting evidence, if any, not later than April 14, 2011.

ADDRESSES: Written objections are to be filed with the NAVFAC-ESC, Code CI60, 1100 23rd Avenue, Port Hueneme, CA 93043-4370 attention Kurt Buehler.

FOR FURTHER INFORMATION CONTACT: Kurt Buehler, Technology Transfer Office, NAVFAC-ESC, Code CI60, 1100 23rd Avenue, Port Hueneme, CA 93043-4370, telephone: 805-982-1225. Due to U.S. Postal delays, please fax: 805-982-3481, e-mail: kurt.buehler@navy.mil or use courier delivery to expedite response.

(Authority: 35 U.S.C. 207, 37 CFR part 404.)

Dated: March 23, 2011.
D.J. Werner,
Lieutenant Commander, Judge Advocate General's Corps, U.S. Navy, Federal Register Liaison Officer.

[FR Doc. 2011-7422 Filed 3-29-11; 8:45 am]

BILLING CODE 3810-FF-P